MISSISSIPPI RIVER COMMISSION

Sunshine Act Meetings

AGENCY: Mississippi River Commission.

Time and Date: 9 a.m., August 16, 2004.

Place: On board MISSISSIPPI V at Riverside Park Landing, La Crosse, WI.

Status: Open to the public.

Matters to be Considered: (1) Summary report by President of the Commission on national and regional issues affecting the U.S. Army Corps of Engineers and Commission programs and projects on the Mississippi River and its tributaries; (2) District Commander's overview of current projects issues within the St. Paul District; and (3) Presentations by local organizations and members of the public giving views or comments on any issue affecting the programs or projects of the Commission and corps of Engineers.

Time and Date: 9 a.m., August 17, 2004.

Place: On board MISSISSIPPI V at City Front, Dubuque, IA.

Status: Open to the public.

Matters to be Considered: (1) Summary report by President of the Commission on national and regional issues affecting the U.S. Army Corps of Engineers and Commission on programs and projects on the Mississippi River and its tributaries; (2) District Commander's overview of current project issues within the Rock Island District; and (3) Presentations by local organizations and members of the public giving views or comments on any issue affecting the programs or projects of the Commission and the Corps of Engineers.

Time and Date: 9 a.m., August 20, 2004.

Place: On board MISSISSIPPI V at Melvin Price Lock & Dam, Alton, IL.

Status: Open to the public.

Matters to be Considered: (1) Summary report by President of the Commission on national and regional issues affecting the U.S. Army Corps of Engineers and Commission programs and projects on the Mississippi River and its tributaries; (2) District Commander's overview of current project issues within the St. Louis District and; (3) Presentations by local organizations and members of the public giving views or comments on any issue affecting the programs or projects of the Commission and the Corps of Engineers.

Time and Date: 9 a.m., August 23, 2004.

Place: On board MISSISSIPPI V at City Front, New Madrid, MO.

Status: Open to the public.

Matters to be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or of the Commission and the Corps of Engineers.

Time and Date: 9 a.m., August 24,2004.

Place: On board MISSISSIPPI V at City Front, Memphis, TN.

Status: Open to the public.

Matters to be Considered: (1) Summary report by President of the Commission on national and regional issues affecting the U.S. Army Corps of Engineering and Commission programs and projects on the Mississippi River and its tributaries; (2) District Commander's overview of current project issues within the Memphis District; and (3) Presentations by local organizations and members of the public giving views or comments on any issue affecting the programs or of the Commission and the Corps of Engineers.

Time and Date: 9 a.m., August 25, 2004.

Place: On board MISSISSIPPI V at City Front, Greenville, MS.

Status: Open to the public.

Matters to be Considered: (1) Summary report by President of the Commission on national and regional issues affecting the U.S. Army Corps of Engineers and Commission programs and projects on the Mississippi River and its tributaries; (2) District Commander's overview of current project issues within the Vicksburg District; and (3) Presentations by local organizations and members of the public giving views or comments on any issue affecting the programs or of the Commission and the Corps of Engineers.

Time and Date: 9 a.m., August 27, 2004.

Place: On board MISSISSIPPI V at Cenac Towing Co. Dock, Houma, LA.

Status: Open to the public.

Matters to be Considered: (1) Summary report by President of the Commission on national and regional issues affecting the U.S. Army Corps of Engineers and Commission programs and projects on the Mississippi River and its tributaries; (2) District Commander's overview of current project issues within the New Orleans District; and (3) Presentations by local organizations and members of the public giving views or comments on any issue affecting the programs or of the Commission and the Corps of Engineers.

FOR FURTHER INFORMATION CONTACT: Mr. Stephen Gambrell, telephone 601-634-5766.

Richard B. Jenkins,
Colonel, Corps of Engineers, Secretary, Mississippi River Commission.

[FR Doc. 04-16551 Filed 7-16-04; 11:41 am]

BILLING CODE 3710-GX-M